CORPORATION FOR NATIONAL AND COMMUNITY SERVICE

Privacy Act of 1974; System of Records

AGENCY: Corporation for National and Community Service.

ACTION: Notice of a modified System of Records.

SUMMARY: The Corporation for National and Community Service (CNCS) proposes to modify Office of the Inspector General Investigative Files—Corporation-15, last published on January 30, 2002 (67 FR 4395, 4407), to include substantive changes and modifications described in detail in the supplementary section. The primary purpose of the system is to enable the CNCS Office of Inspector General (CNCS-OIG) to carry out its responsibilities under the Inspector General Act of 1978, as amended, including its responsibility to conduct and supervise investigations relating to programs and operations of CNCS.

DATES: Interested persons may submit comments until February 18, 2020. The system of Records Notice (SORN) will be effective February 18, 2020 unless CNCS receives any timely comments which would result in a contrary determination.

ADDRESSES: You may submit comments, identified by system name and number, by any of the following methods:

(1) Electronically through www.regulations.gov.

Once you access www.regulations.gov, locate the web page for this SORN by searching for CNCS-03-OIG-Investigative Files. If you upload any files, please make sure they include your first name, last name, and the name of the proposed SORN.

(2) By email at feedback@CNCSOIG.gov.

(3) By mail: Corporation for National and Community Service, Attn: Office of Inspector General, 250 E St. SW, Suite 400, Washington, DC 20525.

(4) By hand delivery or by courier to CNCS-OIG at the mail address given in paragraph (3) above, between 9:00 a.m. and 4:00 p.m. Eastern Time, Monday through Friday, except Federal holidays.

Comments received generally will be posted without change to www.regulations.gov, including any personal and/or business confidential information provided. To confirm receipt of your comment(s), please check www.regulations.gov, approximately two to three days after submission to verify posting (except allow 30 days for posting of comments submitted by mail).

FOR FURTHER INFORMATION CONTACT: If you have general questions about a system of record, please email privacy@cns.gov or use the mailing address (3) identified above. Please include the system of record's name and number.

SUPPLEMENTARY INFORMATION: This notice serves to update and modify CNCS-OIG's records system by changing the name of the system from Office of the Inspector General Investigative Files—Corporation-15 to CNCS-03-OIG-Investigative Files, adding new routine uses, revising several existing routine uses, and eliminating routine uses that were duplicative. The substantive changes and modifications to the currently published version of Office of the Inspector General Investigative Files—Corporation-15 include:

• Renaming the SORN as CNCS-03-OIG-Investigative Files;

• Replacing all prior routine uses with nineteen new and modified routine uses that are specific to this SORN;

• Creating a method for disclosures to prevent or respond to a suspected or confirmed data breach and disclosures during a records management inspection;

• Enabling CNCS-OIG to release information to the public when: (a) The matter under investigation has become public knowledge because information about it is publicly available, (b) CNCS-OIG or a designee determines that such disclosure is necessary to preserve confidence in the integrity of CNCS-OIG investigative process, or (c) to demonstrate the accountability of CNCS employees or other individuals covered by the system;

• Addressing limited disclosures—to complainants, victims, and witnesses—in situations not covered by routine use 18, and consistent with uses promulgated by other Federal OIGs; and,

• Informing individuals that they can request updates and amendments to their records via email or facsimile and what they should include in that inquiry to receive prompt service.

These changes not only advance overall transparency, but also, by keeping complainants and victims informed about cases in which they are involved, will encourage individuals to come forward and to cooperate in future investigations. Providing witnesses with records they initially produced, or which contain their own statements or testimony, will, for example, assist the Federal government in ongoing legal proceedings concerning the matters investigated. These changes also represent a balance between privacy interests and the public's interest in transparency. Disclosure of names in certain circumstances will help deter misconduct involving CNCS and/or its funded activities.

For ease of reference, CNCS is republishing the Office of Inspector General records system in its entirety.

SYSTEM NAME AND NUMBER:

CNCS-03-OIG-Investigative Files.

SECURITY CLASSIFICATION:

Unclassified.

SYSTEM LOCATION:

Office of Inspector General, Corporation for National and Community Service, 250 E St. SW, Suite 400, Washington, DC 20525.

SYSTEM MANAGER(S):

Inspector General, Office of Inspector General, Corporation for National and Community Service, 250 E St. SW, Suite 400, Washington, DC 20525.

AUTHORITY FOR MAINTENANCE OF THE SYSTEM:

The Inspector General Act of 1978, as amended (5 U.S.C. App. 3) and The National and Community Service Trust Act of 1993 (42 U.S. Code Chapter 129).

PURPOSE(S) OF THE SYSTEM:

The Corporation for National and Community Service (CNCS) Office of Inspector General (CNCS-OIG) uses the system to track and maintain the files acquired and developed when CNCS-OIG investigates individuals associated with a CNCS program or operation pursuant to the Inspector General Act of 1978, as amended. CNCS-OIG is statutorily directed to conduct and supervise investigations relating to CNCS programs and operations to promote economy, efficiency and effectiveness in the administration of such programs and operations, and to prevent and detect fraud, waste and abuse in such programs and operations. Accordingly, the records in the system are used to investigate individuals and entities suspected of having committed illegal or improper acts and to conduct criminal prosecutions, civil proceedings, and administrative actions against those individuals and entities.

CATEGORIES OF INDIVIDUALS COVERED BY THE SYSTEM:

In connection with CNCS-OIG's investigative duties, the system maintains records on the following categories of individuals:

• Individuals or entities that are or have been the subject of inquiries or investigations conducted by CNCS-OIG. These include current and former employees of CNCS, and current and former contractors (or applicants for contracts), subcontractors, consultants, or the recipients of (or applicants for) CNCS grants, subgrants, or cooperative agreements, and their current or former employees; and,

• Individuals who are witnesses, complainants, confidential or nonconfidential informants, and other parties who have been identified by CNCS-OIG (on the basis of information received or developed by CNCS-OIG) as potentially possessing information relevant to an investigation under CNCS-OIG's jurisdiction.

CATEGORIES OF RECORDS IN THE SYSTEM:

The records in the system include:

• Letters, memoranda, hotline forms, and other documents describing complaints or alleged criminal, civil, or administrative misconduct;

• Investigative files such as statements, affidavits, subpoenas, analyses, and records obtained during the investigation; and,

• Final reports on the investigation and any related exhibits, which may include information about any follow-up actions.

RECORD SOURCE CATEGORIES:

The subjects of investigations, and individuals with whom the subjects of investigations are associated, such as:

• Current and former CNCS employees;

• Current and former employees of grantees, contractors and subcontractors;

• Current and former National Service participants;

• Federal, state, local, and foreign law enforcement and non-law enforcement agencies;

• Members of the public;

• Witnesses;

• Confidential and nonconfidential informants; and

• Information gathered from public sources.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in the system may be disclosed to authorized entities, as is determined to be relevant and necessary, as a routine use pursuant to 5 U.S.C. 552a(b)(3) as follows:

1. To appropriate agencies, entities, and persons when:

a. CNCS-OIG or CNCS suspects or has confirmed that there has been a breach of the system of records,

b. CNCS-OIG or CNCS has determined that as a result of the suspected or confirmed breach there is a risk of harm to individuals, CNCS (including its information systems, programs, and operations), the Federal government, or national security, and

c. The disclosure made to such agencies, entities, and persons is reasonably necessary to assist in connection with CNCS-OIG's or CNCS's efforts to respond to the suspected or confirmed breach or to prevent, minimize, or remedy such harm.

2. To another Federal agency or Federal entity, when CNCS determines that information from the system of records is reasonably necessary to assist the recipient agency or entity in:

a. Responding to a suspected or confirmed breach; or

b. Preventing, minimizing, or remedying the risk of harm to individuals, the recipient agency or entity (including its information systems, programs, and operations), the Federal Government, or national security, resulting from a suspected or confirmed breach.

3. To National Archives and Records Administration. A record may be disclosed during a records management inspection conducted under 44 U.S.C. 2906, and for mediation services to resolve disputes under 5 U.S.C. 552(h)(2).

4. To Federal, State, Local, or Foreign Investigative or Prosecutorial Authorities. A record which indicates either by itself or in combination with other information within CNCS-OIG's possession, a violation or potential violation of law, whether civil, criminal or regulatory, may be disclosed, as a routine use, to the appropriate Federal, foreign, state or local agency or professional or licensing organization charged with the responsibility of investigating, enforcing, or prosecuting such violation.

5. For Certain Disclosures to Other Federal Agencies—To a Federal agency, in connection with the hiring or retention of an employee; the conducting of a suitability or security investigation of an individual and issuance of a security clearance; the classification of jobs; the procurement of a contract; or the issuance of a license, grant, or other benefit by the requesting agency, to the extent that the information is relevant and necessary to the requesting agency's decision on the matter.

6. To the Equal Employment Opportunity Commission—When requested in connection with investigations into alleged or possible discrimination practices in the Federal sector, compliance by Federal agencies with the Uniform Guidelines on Employee Selection Procedures or other functions vested in the Commission and to otherwise ensure compliance with the provisions of 5 U.S.C. 7201.

7. To the Office of the President, or a Member of Congress or His or Her Staff—In response to a request made on behalf of and at the request of the individual who is the subject of the record, when the Office of the President or the member of Congress has shown the appropriate official that the individual to whom the record pertains has authorized the Office of the President or the member of Congress to have access.

8. To a Federal or State Grand Jury. Pursuant to a Federal or state grand jury subpoena, or prosecution request, a record may be disclosed for the purpose of its introduction to a grand jury.

9. To a Contractor, Grantee, Subgrantee or Other Recipient of Federal Funds. A record may be disclosed when the record reflects serious inadequacies with the award recipient's personnel, and disclosure of the record is for the purpose of permitting the award recipient to effect corrective action in the government's best interest.

10. To Outside Entities During an Investigation or Audit. A record may be disclosed to any source, either private or governmental, to the extent necessary to secure from such source information relevant to, and sought in furtherance of, an OIG investigation, audit, or evaluation.

11. To a Government Agency Pursuant to a Bid Protest. A record may be disclosed to a Board of Contract Appeals, the General Accounting Office, or other tribunal hearing a bid protest involving a CNCS or CNCS-OIG procurement.

12. To the U.S. Department of Justice (DOJ) for a Freedom of Information Act or Privacy Act Consultation. A record may be disclosed in order to obtain DOJ's advice regarding CNCS-OIG's obligations under the Freedom of Information Act or Privacy Act.

13. To the White House Office of Management and Budget (OMB) for a Privacy Act Consultation. A record may be disclosed in order to obtain OMB's advice regarding CNCS-OIG's obligations under the Privacy Act.

14. To Federal Agencies for Tax Records. A record may be disclosed to the U.S. Department of the Treasury or DOJ when CNCS or CNCS-OIG is seeking to obtain taxpayer information from the Internal Revenue Service.

15. To a Consumer Reporting Agency. A record may be disclosed to a “consumer reporting agency” as that term is defined in the Fair Credit Reporting Act (15 U.S.C. 1681a(f)), and the Federal Claims Collection Act of 1966 (31 U.S.C. 3701 (a)(3)), in order to obtain information in the course of an investigation or audit.

16. To a Government Agency under a Computer Matching Program. A record may be disclosed to a Federal, state, or local agency for use in computer matching programs to prevent and detect fraud and abuse in benefit or other programs, to support civil and criminal law enforcement activities of those agencies and their components, and to collect debts and overpayments owed to those agencies and their components.

17. For Litigation and Mediation Purposes. A record may be disclosed to DOJ or a state or local prosecutor, in a proceeding before a court, adjudicative body, or mediation service before which CNCS-OIG is authorized to appear, when—

a. CNCS-OIG, CNCS, or any component thereof;

b. Any employee of CNCS-OIG or CNCS in his or her official capacity;

c. Any employee of CNCS-OIG or CNCS in his or her individual capacity, where the government has agreed to represent the employee; or

d. The United States, where CNCS-OIG determines that the litigation is likely to affect CNCS-OIG, CNCS, or any of its components,

is a party to litigation or has an interest in such litigation, and the use of such records by DOJ is deemed relevant and necessary to the litigation.

18. For Certain Disclosures to the Public. Unless CNCS-OIG or a designee determines that disclosure of the specific information, in the context of a particular case, would constitute an unwarranted invasion of personal privacy, a record may be disclosed to the public:

a. When the matter under investigation has become public knowledge because information about it is publicly available; or,

b. When CNCS-OIG or a designee determines that such disclosure is necessary to preserve confidence in the integrity of the CNCS-OIG investigative process; or

c. To demonstrate the accountability of CNCS-OIG or CNCS employees or other individuals covered by the system.

19. To Sources of Investigations, Audits, and Inspections. A record may be disclosed to:

a. Complainants and/or victims to the extent necessary to provide such persons with information and explanations concerning the results of the investigation or case arising from the matters about which they complained and/or with respect to which they were a victim; and,

b. An individual who has been interviewed or contacted by CNCS-OIG pursuant to an investigation, audit, or inspection, to the extent that CNCS-OIG may provide copies of that individual's statements, testimony, or records produced.

POLICIES AND PRACTICES FOR STORAGE OF RECORDS:

Paper records are stored in locked rooms, file cabinets, and desks. Electronic records and backups are stored on secure servers and encrypted media to include, but are not limited to, CNCS-OIG's computers and network drives.

POLICIES AND PRACTICES FOR RETRIEVAL OF RECORDS:

Each CNCS-OIG investigation file is assigned a case number and all records related to a particular investigation are filed and retrieved by that case number. Records may also be retrieved by the name of the subjects, witnesses, and/or complainants.

POLICIES AND PRACTICES FOR RETENTION AND DISPOSAL OF RECORDS:

Closed Investigation Files are retained for three years and then retired to the Federal Records Center and held for ten years after the fiscal year they were closed.

ADMINISTRATIVE, TECHNICAL, AND PHYSICAL SAFEGUARDS:

• Access to the records is limited to authorized personnel who require the information to complete their assigned tasks and have been trained how to properly handle and safeguard the records.

• Electronic records are maintained in accordance with National Institute of Standards and Technology Special Publication 800-53 Rev. 4, Security and Privacy Controls for Federal Information Systems and Organizations or the updated equivalent.

• Paper records are maintained in locked rooms, file cabinets, and desks when not in use.

RECORD ACCESS PROCEDURES:

In accordance with 45 CFR part 2508, Implementation of the Privacy Act of 1974, individuals wishing to access their own records must contact the System Manager at the address listed above, state that they want access to their own records, and furnish his or her name, address, telephone number, and a copy of an identification card such as a driver's license.

CONTESTING RECORD PROCEDURES:

The major part of the system is exempted from this requirement pursuant to 5 U.S.C. 552a(j)(2), (k)(1), and (k)(2). To the extent that the system of records is not subject to exemption, it is subject to contest. A determination as to exemption shall be made at the time a request for contest is received. Requesters shall direct their request to the System Manager listed above, stating clearly and concisely what information is being contested, the reason for contesting it, and the proposed amendment to the information. Individuals should also be prepared to confirm their identity as required by 45 CFR part 2508.

NOTIFICATION PROCEDURES:

To determine whether the system of records contains a record pertaining to the requesting individual, the individual should write to the System Manager at the address listed above. Individuals who make a request must include enough identifying information to locate their records, indicate that they want to be notified whether their records are included in the system, and be prepared to confirm their identity as required by 45 CFR part 2508. Upon receipt, the System Manager will respond within 30 days in the same manner that the request was received e.g., for a request received by email CNCS-OIG will provide notification via email.

EXEMPTIONS CLAIMED FOR THE SYSTEM:

• Pursuant to, and limited by 5 U.S.C. 552a(j)(2) and 45 CFR 2508.19(a)(1), the system of records maintained by CNCS-OIG that contains the Investigative Files shall be exempted from the provisions of 5 U.S.C. 552a, except subsections (b), (c) (1) and (2), (e)(4) (A) through (F), (e)(6)(7), (9), (10), and (11), and (I), and 45 CFR 2508.11, 2508.12, 2508.13, 2508.14, 2508.15, 2508.16, and 2508.17, insofar as the system contains information pertaining to criminal law enforcement investigations.

• Pursuant to, and limited by 5 U.S.C. 552a(k)(2) and 45 CFR 2508.19(a)(2), the system of records maintained by CNCS-OIG that contains the Investigative Files shall be exempted from 5 U.S.C. 552a (c)(3), (d), (e)(1), (e)(4) (G), (H), and (I), and (f), and 45 CFR 2508.11, 2508.12, 2508.13, 2508.14, 2508.15, 2508.16, and 2508.17, insofar as the system contains investigatory materials compiled for law enforcement purposes.

HISTORY:

64 FR 10879, 10890, March 5, 1999; 65 FR 46890, 46902, August 1, 2000; 67 FR 4395, 4407, January 30, 2002.

Dated: January 6, 2020.
Ndiogou Cisse,
Senior Agency Official for Privacy and Chief Information Officer.

[FR Doc. 2020-00581 Filed 1-15-20; 8:45 am]

BILLING CODE 6050-28-P